FEDERAL COMMUNICATIONS COMMISSION

Notice of Public Information Collection(s) Being Reviewed by the Federal Communications Commission, Comments Requested

May 1, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 9, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0824.

Title: Service Provider Information Form.

Form No.: N/A.

Type of Review: Extension.

Respondents: Business or Other for Profit.

Number of Respondents: 10,000.

Estimated Time Per Response: 1 hour per response (avg).

Total Annual Burden: 10,000 hours.

Estimated Annual Reporting and Recordkeeping Cost Burden: $0.

Frequency of Response: On occasion.

Needs and Uses: Pursuant to 47 CFR sections 54.515 and 54.611, the Administrator must obtain information relating to: service provider name and address, telephone number, Federal employee identification number, contact names and telephone numbers, and billing and collection information. FCC Form 498 has been designed to collect this information from carriers and service providers participating in the universal service program. The information will be used in the reimbursement of universal service support payments.

OMB Control No.: 3060-0804.

Title: Universal Service—Health Care Providers Universal Service Program.

Form No.: FCC Forms 465, 466, 466-A, 467 and 468.

Type of Review: Extension.

Respondents: Not for profit institutions; Business or Other for Profit.

Number of Respondents: 5255.

Estimated Time Per Response: 1.85 hours per response (avg).

Total Annual Burden: 9755 hours.

Estimated Annual Reporting and Recordkeeping Cost Burden: $0.

Frequency of Response: On occasion;.

Needs and Uses: The Commission adopted rules providing support for all telecommunications services, Internet access, and internal connections for all eligible health care providers. Health care providers who want to participate in the universal service program must file several forms, including FCC Forms 465, 466, 466-A, 467, and 468. FCC Form 465, Description of Service Requested and Certification is filed by rural health care providers to certify their eligibility to receive discounted telecommunications services. FCC Form 466, Funding Request and Certification Form is used to ensure that health care providers have selected the most cost-effective method of providing the requested services. FCC Form 466-A is filed by rural health care providers seeking support only for toll changes to access the Internet. FCC Form 467, Connection Certification is filed by rural health care providers to inform the Administrator that they have begun to receive, or have stopped receiving, the telecommunications services for which universal service support has been allocated. FCC Form 468, Telecommunications Carrier Form, is submitted by rural health care providers to ensure that the telecommunications carrier receives the appropriate amount of credit for providing telecommunications services to eligible health care providers.

OMB Control No.: 3060-0855.

Title: Telecommunications Reporting Worksheet and Associated Requirements, CC Docket No. 96-45.

Form No.: FCC Forms 499, 499-A and 499-Q.

Type of Review: Extension.

Respondents: Business or Other for Profit.

Number of Respondents: 5000.

Estimated Time Per Response: 16.49 hours per response (avg).

Total Annual Burden: 82,487 hours.

Estimated Annual Reporting and Recordkeeping Cost Burden: $0.

Frequency of Response: On occasion; Monthly; Annually; Third Party Disclosure; Recordkeeping.

Needs and Uses: Pursuant to the Communications Act of 1934, as amended, telecommunications carriers (and certain other providers of telecommunications services) must contribute to the support and cost recovery mechanisms for telecommunications relay services, numbering administration, number portability, and universal service. The Commission recently modified the existing methodology used to assess contributions that carriers make to the federal universal service support mechanisms. The modifications adopted entail altering the current revenue reporting requirements to which interstate telecommunications carriers are subject under 47 U.S.C. Sections 54.709 and 54.711. Carriers continue to file FCC Form 499-A annually as they are required to do under the existing methodology. Carriers must now report their revenues for each quarter on FCC Form 499-Q. Carriers will file one annual filing and four quarterly filings, for a total of five revenue filings per year.

Federal Communications Commission.
Magalie Roman Salas,
Secretary.

[FR Doc. 01-11765 Filed 5-9-01; 8:45 am]

BILLING CODE 6712-01-P